DEPARTMENT OF THE INTERIOR

Bureau of Land Management

43 CFR Part 3160

[LLWO300000 L13100000.PP0000 14X]

RIN 1004-AE26

Oil and Gas; Hydraulic Fracturing on Federal and Indian Lands

Correction

In rule document 2015-06658, appearing on pages 16128-16222, in the Issue of March 26, 2015, make the following corrections:

§ 3162.3-3 Subsequent well operations; Hydraulic fracturing. [Corrected]

1. On page 16218, in § 3162.3-3 (a)(5), in the table in the first column, in the fifth row, the entry “(5) Authorized drilling operations were completed after September 22, 2015.” should read “(5) Authorized drilling operations were completed after December 26, 2014.”

2. On the same page, in § 3162.3-3, in the same table, in the first column, in the sixth row, the entry “(6) Authorized drilling activities were completed before September 22, 2015” should read “(6) Authorized drilling activities were completed before December 26, 2014.”

[FR Doc. C1-2015-06658 Filed 3-26-15; 4:15 pm]

BILLING CODE 1505-01-D